DEPARTMENT OF LABOR

Office of the Secretary

Submission for OMB Review: Comment Request

September 23, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Cotton Dust (29 CFR 1910.1043).

OMB Number: 1218-0061.

Frequency: On occasion; biennially; semi-annually; and annually.

Type of Response: Recordkeeping and third party disclosure.

Affected Public: Business or other for-profit; Federal Government; and State, Local, or Tribal Government.

Number of Respondents: 535.

Number of Annual Responses: 185,384.

Estimated Time Per Response: Varies from 5 minutes to maintain a required record to 2 hours to conduct exposure monitoring.

Total Burden Hours: 70,318.

Total Annualized capital/startup costs: $0.

Total Annual Costs (operating/maintaining systems or purchasing services): $6,526,314.

Description: The information collection requirements specified in the Cotton Dust Standard (29 CFR 1910.1043) protect employees from the adverse health effects that may result from their exposure to Cotton Dust. The major information collection requirements of the Cotton Dust Standard include: Performing exposure monitoring, including initial, periodic, and additional monitoring; notifying each employee of their exposure monitoring results either individually in writing or by posting; implementing a written compliance program; and establishing a respiratory protection program in accordance with OSHA's Respiratory Protection Standard (29 CFR 1910.134).

Agency: Occupational Safety and Health Administration.

Type of Review: Extension of currently approved collection.

Title: Inorganic Arsenic (29 CFR 1910.1018).

OMB Number: 1218-0104.

Frequency: On occasion; quarterly; semi-annually; and annually.

Type of Response: Recordkeeping; reporting; and third party disclosure.

Affected Public: Business or other for-profit; Federal Government; and State, Local, or Tribal Government.

Number of Respondents: 42.

Number of Annual Responses: 15,928.

Estimated Time Per Response: Varies from 5 minutes to maintain records to 1.67 hours to complete a medical examination.

Total Burden Hours: 4,861.

Total Annualized capital/startup costs: $0.

Total Annual Costs (operating/maintaining systems or purchasing services): $396,322.

Description: The information collection requirements in the Inorganic Arsenic (IA) Standard (29 CFR 1910.1018) protect employees from the adverse health effects that may result from their exposure to IA. The IA Standard requires employers to: Monitor employees' exposure to inorganic arsenic; monitor employee health; develop and maintain employee exposure-monitoring and medical records; and provide employees with information about their exposures and the adverse health effects of exposure to inorganic arsenic.

Agency: Occupational Safety and Health Administration.

Type of Review: Extension of currently approved collection.

Title: Acrylonitrile (29 CFR 1910.1045).

OMB Number: 1218-0126.

Frequency: On occasion; quarterly; semi-annually; and annually.

Type of Response: Recordkeeping; reporting; and third party disclosure.

Affected Public: Business or other for-profit; Federal Government; and State, Local, or Tribal Government.

Number of Respondents: 23.

Number of Annual Responses: 7,946.

Estimated Time Per Response: Varies from 5 minutes to provide information to the examining physician to 1.5 hours to conduct medical examinations.

Total Burden Hours: 3,237.

Total Annualized capital/startup costs: $0.

Total Annual Costs (operating/maintaining systems or purchasing services): $173,652.

Description: The Acrylonitrile Standard (the “AN” standard), and its information collection requirements, is designed to provide protection for employees from the adverse health effects associated with occupational exposure to Acrylonitrile. The major information collection requirements of the AN Standard include: notifying employees of their AN exposures, implementing a written compliance program, providing examining physicians with specific information, ensuring that employees receive a copy of their medical examination results, maintaining employee's exposure-monitoring and medical records for specific periods, and providing access to these records by OSHA, the National Institute for Occupational Safety and Health, the affected employees, and designated representatives.

Agency: Occupational Safety and Health Administration.

Type of Review: Extension of currently approved collection

Title: Servicing Multi-Piece and Single Piece Rim Wheels (29 CFR 1910.177).

OMB Number: 1218-0219

Frequency: On occasion.

Type of Response: Recordkeeping and third party disclosure.

Affected Public: Business or other for-profit; not-for-profit institutions; Federal Government; and State, Local, or Tribal Government.

Number of Respondents: 8.

Number of Annual Responses: 8.

Estimated Time Per Response: 3 minutes.

Total Burden Hours: 1.

Total Annualized capital/startup costs: $0.

Total Annual Costs (operating/maintaining systems or purchasing services): $0.

Description: The purpose of 29 CFR 1910.177 is to reduce employees' risk of death or serious injury by ensuring that restraining devices used by them during the servicing of multi-piece rim wheels are in safe operating condition. Specifically, the certification records required by paragraph (d)(3)(iv) are used to assure that equipment has been repaired properly. The certification records also provide the most efficient means for OSHA compliance officers to determine that an employer is complying with the Standard.

Agency: Occupational Safety and Health Administration.

Type of Review: Extension of currently approved collection.

Title: Telecommunications (Training Certification Records) (29 CFR 1910.268(c)).

OMB Number: 1218-0225.

Frequency: On occasion.

Type of Response: Recordkeeping and third party disclosure.

Affected Public: Business or other for-profit; not-for-profit institutions; Federal Government; and State, Local, or Tribal Government

Number of Respondents: 651

Number of Annual Responses: 140,050

Estimated Time Per Response: 2 minutes

Total Burden Hours: 4,202

Total Annualized capital/startup costs: $0

Total Annual Costs (operating/maintaining systems or purchasing services): $0

Description: The Telecommunications Standard at 29 CFR 1910.268(c) specifies one information collection requirement. The following section describes who uses the information collected under the requirement as well as how they use it. The purpose of this requirement is to ensure that employees have been trained as required by the Standard to prevent risk of death or serious injury.

Training (paragraph (c)). Under the paperwork requirement specified by paragraph (c) of the Standard, employers must certify that his or her employees have been trained as specified by the performance-language training provision of the Standard. Specifically, employers must prepare a certification record which includes the identity of the person trained, the signature of the employer or the person who conducted the training, and the date the training was completed. The certification record shall be prepared at the completion of training and shall be maintained on file for the duration of the employee's employment. The information collected would be used by employers as well as compliance officers to determine whether employees have been trained according to the requirements set forth in 29 CFR 1910.268(c).

Ira L. Mills,
Departmental Clearance Officer.

[FR Doc. 05-19795 Filed 10-3-05; 8:45 am]

BILLING CODE 4510-26-P